DEPARTMENT OF HEALTH AND HUMAN SERVICES

Centers for Disease Control and Prevention

[CDC-2013-0001; NIOSH-134-B]

Update of NIOSH Nanotechnology Strategic Plan for Research and Guidance

AGENCY: National Institute for Occupational Safety and Health (NIOSH) of the Centers for Disease Control and Prevention (CDC), Department of Health and Human Services (HHS).

ACTION: Request for Information: Update of NIOSH Nanotechnology Strategic Plan for Research and Guidance.

SUMMARY: The National Institute for Occupational Safety and Health (NIOSH) of the Centers for Disease Control and Prevention (CDC) seeks comment on the types of hazard identification and risk management research that should be considered for updating the NIOSH FY2013-FY2016 nanotechnology strategic plan. This draft strategic plan (Protecting the Nanotechnology Workforce: NIOSH Nanotechnology Research and Guidance Strategic Plan 2013-2016) can be found in Docket CDC-2013-0001 at http://www.regulations.gov.

DATES: Comments must be received March 19, 2013.

ADDRESSES: You may submit comments, identified by CDC-2013-0001 and Docket Number NIOSH-134-B, by either of the two following methods:

• Federal erulemaking portal: http://www.regulations.gov. Follow the instructions for submitting comments.

• Mail: NIOSH Docket Office, Robert A. Taft Laboratories, MS-C34, 4676 Columbia Parkway, Cincinnati, OH 45226.

Instructions: All information received in response to this notice must include the agency name and docket number (CDC-2013-0001; NIOSH-134-B). All relevant comments received will be posted without change to http://www.regulations.gov, including any personal information provided. For access to prior background documents or previous comments received, go to http://www.cdc.gov/niosh/docket/archive/docket134.html and http://www.cdc.gov/niosh/docket/archive/docket134A.html.

FOR FURTHER INFORMATION CONTACT: Charles L. Geraci, NIOSH, Robert A. Taft Laboratories, MS-C14, 4676 Columbia Parkway, Cincinnati, Ohio 45226, telephone (513) 533-8339.

SUPPLEMENTARY INFORMATION:

Background

Since 2004, the National Institute for Occupational Safety and Health (NIOSH) of the Centers for Disease Control and Prevention (CDC) has pioneered research on the toxicological properties and characteristics of nanoparticles. This research has involved characterizing occupationally relevant nanoparticles for predicting whether these particles pose a risk of adverse health effects and for providing guidance on controlling workplace exposures. In September 2005, NIOSH developed a strategic plan to further guide the Institute in identifying and prioritizing nanotechnology research. In 2009 this strategic plan [http://www.cdc.gov/niosh/docs/2010-105] was updated based on knowledge gained from results of ongoing NIOSH research [see Progress Toward Safe Nanotechnology in the Workplace; A Report from the NIOSH Nanotechnology Research Center http://www.cdc.gov/niosh/docs/2007-123/] and from the public and stakeholder input. NIOSH would like to build on the accomplishments of ongoing research [http://www.cdc.gov/niosh/docs/2013-101/ and http://www.cdc.gov/niosh/docs/2010-104/] to develop strategic research goals and objectives for nanotechnology occupational safety and health research through 2016. NIOSH has identified 10 critical research areas for nanotechnology research and communication. These 10 critical research areas are (1) Toxicity and internal dose, (2) measurement methods, (3) exposure assessment, (4) epidemiology and surveillance, (5) risk assessment, (6) engineering controls and personal protective equipment (PPE), (7) fire and explosion safety, (8) recommendations and guidance, (9) global collaborations, and (10) applications.

NIOSH is considering focusing the overarching strategic research goals for these critical areas on 5 key objectives: (1) Increase understanding of new hazards and related health risks to nanomaterial workers; (2) Expand understanding of the initial hazard findings on engineered nanomaterials; (3) Support the creation of guidance materials to inform nanomaterial workers, employers, health professionals, regulatory agencies, and decision-makers about hazards, risks, and risk management approaches; (4) Support epidemiologic studies for nanomaterial workers, including medical and exposure studies; and 5) Assess and promote national adherence with risk management guidance.

NIOSH requests public input to address the following:

(1) What is the basis or rationale for priorities that NIOSH should give for studies of toxicity evaluation and/or workplace exposure characterization for engineered nanoparticles?

(2) What rationale can be provided for recommending needs and types of technical and educational guidance materials?

Dated: January 14, 2013.
John Howard,
Director, National Institute for Occupational Safety and Health, Centers for Disease Control and Prevention.

[FR Doc. 2013-00994 Filed 1-17-13; 8:45 am]

BILLING CODE 4163-19-P